DEPARTMENT OF ENERGY

Federal Energy Regulatory Commission

[Docket No. PR01-1-000]

Associated Natural Gas Company; Notice of Petition for Rate Approval

November 20, 2000.

Take notice that on November 1, 2000, Associated Natural Gas Company (ANG) filed, pursuant to section 284.123(b)(2) of the Commission's regulations, a petition for rate approval requesting that the Commission approve as fair and equitable a firm maximum reservation rate of $1.9662 per MMBtu, a firm minimum reservation rate of $0.0000, maximum and minimum commodity rates of $0.00273 per MMBtu, an interruptible maximum rate of $0.03663, and an interruptible minimum rate of $0.00273 per MMBtu for transportation services performed under its blanket certificate issued pursuant to 18 CFR 284.224.

ANG states that its facilities consist of two discrete, non-integrated systems. One of these systems is located entirely in Arkansas. The other system is located almost entirely in Arkansas but crosses the Arkansas-Missouri border and extends approximately 50 feet into Missouri where it interconnects with another local distribution company in Missouri. ANG requests approval of the proposed rates to facilitate ANG's deliveries of gas across the Arkansas-Missouri border. The proposed rates will apply only to the delivery of gas on the ANG system located in northeast Arkansas and Southeast Missouri.

Pursuant to section 284.123(b)(2)(ii), if the Commission does not act within 150 days of the filing date, the rate will be deemed to be fair and equitable and not in excess of an amount which interstate pipelines would be permitted to charge for similar transportation service. The Commission may, prior to the expiration of the 150-day period, extend the time for action or institute a proceeding to afford parties an opportunity for written comments and for the oral presentation of views, data, and arguments.

Any person desiring to participate in this rate proceeding must file a motion to intervene or protest with the Federal Energy Regulatory Commission, 888 First Street, NE., Washington, D.C. 20426, in accordance with Rules 211 and 214 of the Commission's rules of Practice and Procedure (18 CFR 385.211 and 385.214). All motions must be filed with the Secretary of the Commission on or before December 5, 2000. This petition for rate approval is on file with the Commission and is available for public inspection. This filing may be viewed on the web at

http://www.ferc.fed.us/online/rims.htm (call 202-208-2222 for assistance). Comments and protests may be filed electronically via the internet in lieu of paper. See, 18 CFR 385.200(a)(1)(iii) and the instruction on the Commission's web sit at http://www.ferc.fed.us.efi/doorbell.htm.

David P. Boergers,
Secretary.

[FR Doc. 00-30086 Filed 11-24-00; 8:45 am]

BILLING CODE 6717-01-M